DEPARTMENT OF ENERGY

10 CFR Part 430

[Docket Number: EERE-2011-BT-STD-0006]

RIN 1904-AC43

Energy Conservation Program: Framework Document for General Service Fluorescent Lamps and Incandescent Reflector Lamps

AGENCY: U.S. Department of Energy (DOE), Office of Energy Efficiency and Renewable Energy.

ACTION: Notice of extension of public comment period.

SUMMARY: On September 14, 2011, DOE published a notice of public meeting and availability of the framework document on general service fluorescent lamps and incandescent reflector lamps energy conservation standards in the Federal Register. This notice announces that the period for submitting comments on the framework document is extended to November 28, 2011.

DATES: DOE will accept comments, data, and information regarding the framework document received no later than November 28, 2011.

ADDRESSES: Any comments submitted must identify the framework document on general service fluorescent lamps and incandescent reflector lamps energy conservation standards, and provide docket number EERE-2011-BT-STD-0006 and/or RIN number 1904-AC43. Comments may be submitted using any of the following methods:

• Federal eRulemaking Portal: http://www.regulations.gov. Follow the instructions for submitting comments.

• E-mail: GSFL-IRL_2011-STD-0006@ee.doe.gov. Include docket number EERE-2011-BT-STD-0006 and/or RIN 1904-AC43 in the subject line of the message. Submit electronic comments in WordPerfect, Microsoft Word, PDF, or ASCII file format and avoid the use of special characters or any form of encryption.

• Postal Mail: Ms. Brenda Edwards, U.S. Department of Energy, Building Technologies Program, Mailstop EE-2J, 1000 Independence Avenue, SW., Washington, DC 20585-0121. Telephone: (202) 586-2945. Please submit one signed original paper copy.

• Hand Delivery/Courier: Ms. Brenda Edwards, U.S. Department of Energy, Building Technologies Program, 950 L'Enfant Plaza, SW., 6th Floor, Washington, DC 20024. Please submit one signed original paper copy.

Docket: For access to the docket to read background documents or comments received, visit the U.S. Department of Energy, Resource Room of the Building Technologies Program, 950 L'Enfant Plaza, SW., 6th Floor, Washington, DC 20024, (202) 586-2945, between 9 a.m. and 4 p.m. Monday through Friday, except Federal holidays. Please call Ms. Brenda Edwards at the above telephone number for additional information regarding visiting the Resource Room. Please note: DOE's Freedom of Information Reading Room (Room 1E-190 at the Forrestal Building) no longer houses rulemaking materials.

FOR FURTHER INFORMATION CONTACT:

Dr. Tina Kaarsberg, U.S. Department of Energy, Office of Energy Efficiency and Renewable Energy, Building Technologies Program, EE-2J, 1000 Independence Avenue, SW., Washington, DC 20585-0121. Telephone: (202) 287-1393. E-mail: Tina.Kaarsberg@ee.doe.gov.

Ms. Elizabeth Kohl, U.S. Department of Energy, Office of the General Counsel, GC-71, 1000 Independence Avenue, SW., Washington, DC 20585-0121. Telephone: (202) 586-7796. E-mail: Elizabeth.Kohl@hq.doe.gov.

SUPPLEMENTARY INFORMATION: On September 14, 2011, DOE published a notice of public meeting and availability of the framework document in the Federal Register 76 FR 56678 (September 14, 2011) to make available and invite comments on the framework document for general service fluorescent lamps and incandescent reflector lamps energy conservation standards. The notice provided for the submission of comments by October 31, 2011, and comments were also accepted at a public meeting held on October 4, 2011. At this public meeting Lutron stated it had conferred with other stakeholders and they were in agreement that more time should be allowed to provide comments on the framework document. Lutron suggested that the comment period for the framework document be extended to coincide with the comment period for the notice of proposed rulemaking for general service fluorescent lamps, general service incandescent lamps, and incandescent reflector lamps test procedures ending November 28, 2011. DOE has determined that an extension of the public comment period is appropriate based on the foregoing reasons and is hereby extending the comment period. DOE will consider any comments received by November 28, 2011/midnight and deems any comments received between October 31, 2011/midnight and November 28, 2011/midnight to be timely submitted.

Further Information on Submitting Comments

Under 10 CFR 1004.11, any person submitting information that he or she believes to be confidential and exempt by law from public disclosure should submit two copies: One copy of the document including all the information believed to be confidential, and one copy of the document with the information believed to be confidential deleted. DOE will make its own determination about the confidential status of the information and treat it according to its determination.

Factors of interest to DOE when evaluating requests to treat submitted information as confidential include (1) a description of the items, (2) whether and why such items are customarily treated as confidential within the industry, (3) whether the information is generally known by or available from other sources, (4) whether the information has previously been made available to others without obligation concerning its confidentiality, (5) an explanation of the competitive injury to the submitting person which would result from public disclosure, (6) when such information might lose its confidential character due to the passage of time, and (7) why disclosure of the information would be contrary to the public interest.

Issued in Washington, DC, on October 18, 2011.
Kathleen B. Hogan,
Deputy Assistant Secretary for Energy, Efficiency Energy Efficiency and Renewable Energy.

[FR Doc. 2011-27408 Filed 10-21-11; 8:45 am]

BILLING CODE 6450-01-P